DEPARTMENT OF HOMELAND SECURITY

U.S. Customs and Border Protection

Automated Commercial Environment (ACE) Export Manifest for Rail Cargo Test: Expansion of Test To Include Additional Participants, Modification of Required Data Elements, and Extension of Test

AGENCY: U.S. Customs and Border Protection, Department of Homeland Security.

ACTION: General notice.

SUMMARY: This notice announces that CBP is modifying the U.S. Customs and Border Protection's (CBP's) Automated Commercial Environment (ACE) Export Manifest for Rail Cargo Test, a National Customs Automation Program (NCAP) test concerning ACE export manifest capability by changing the reporting requirements for certain data elements. CBP is also extending the test and will be accepting additional applications for participation in this modified test from all parties meeting the eligibility requirements.

DATES: The modifications of the ACE Export Manifest for Rail Cargo Test set forth in this document are effective August 14, 2017. The modified test will run until October 9, 2018. Applications from additional participants may be submitted at any time. Current test participants do not need to reapply. Comments concerning this notice and all aspects of the test may be submitted at any time during the test period to the email address below.

ADDRESSES: Applications to participate in the ACE Export Manifest for Rail Cargo Test must be submitted via email to CBP Export Manifest at cbprailexportmanifest@cbp.dhs.gov. In the subject line of the email, please use “ACE Export Manifest for Rail Cargo Test Application”. Written comments concerning program, policy, and technical issues may also be submitted via email to CBP Export Manifest at cbprailexportmanifest@cbp.dhs.gov. In the subject line of the email, please use “Comment on ACE Export Manifest for Rail Cargo Test”.

FOR FURTHER INFORMATION CONTACT: Robert C. Rawls, Outbound Enforcement and Policy Branch, Office of Field Operations, U.S. Customs and Border Protection, via email at cbprailexportmanifest@cbp.dhs.gov.

SUPPLEMENTARY INFORMATION:

Background

The ACE Export Manifest for Rail Cargo Test is a voluntary test in which participants agree to submit export manifest data to CBP electronically, at least 2 hours prior to loading of the cargo onto the train in preparation for departure from the United States or, for empty rail cars, upon assembly of the train. The ACE Export Manifest for Rail Cargo Test is authorized under § 101.9(b) of title 19 of the Code of Federal Regulations (19 CFR 101.9(b)), which provides for the testing of NCAP programs or procedures. See Treasury Decision (T.D.) 95-21.

CBP announced the procedures and criteria related to participation in the ACE Export Manifest for Rail Cargo Test in a notice published in the Federal Register on September 9, 2015 (80 FR 54305). This test was originally set to run for approximately two years. For further details on the background and procedures regarding the test, please refer to the September 9, 2015 notice.

Expansion of Test to Additional Participants

In the September 9, 2015 notice announcing the initial phase of the ACE Export Manifest for Rail Cargo Test, CBP stated that participation in the test was limited to nine stakeholders composed of rail carriers who met the eligibility requirements. This notice announces that the ACE Export Manifest for Rail Cargo Test is now open to all eligible applicants. CBP will endeavor to accept all new eligible applicants on a first come first serve basis. If the number of eligible applicants exceeds CBP's administrative capabilities, CBP reserves the right to select eligible participants in order to achieve a diverse participant pool.

Eligibility Requirements

Except for the expansion to additional participants, the eligibility requirements for the ACE Export Manifest for Rail Cargo Test have not changed since the September 9, 2015 notice. For clarity and convenience to the public, CBP sets forth below the eligibility requirements for participation in the test.

Participation in the ACE Export Manifest for Rail Cargo Test is limited to those parties able to electronically transmit manifest data in the identified acceptable format. Prospective ACE Export Manifest for Rail Cargo Test participants must have the technical capability to electronically submit data to CBP and receive response message sets via Cargo-ANSI X12 (also known as “Rail X12”) or Unified XML, ¹ and must successfully complete certification testing with their client representative. Once parties have applied to participate, they must complete a test phase to determine if the data transmission is in the required readable format. Applicants will be notified once they have successfully completed testing and are permitted to participate fully in the test. In selecting participants, CBP will take into consideration the order in which the applications are received.

¹ Unified XML was not yet functional at the time of the original Automated Commercial Environment (ACE) Export Manifest for Rail Cargo Test. It is now fully functional and available for use.

There are no restrictions with regard to the participant's organization size, location, or commodity type for participation in the test.

Modification of the Filing Condition of Certain Data Elements

One of the main purposes of the ACE Export Manifest for Rail Cargo Test is to test the feasibility of requiring rail carriers to file export manifest data to CBP. Another purpose is to test the functionality regarding the filing of export manifest data for rail cargo electronically to ACE within a specified time before the cargo is loaded on the train. Under the current regulatory requirements, the rail carrier is not required to submit a paper or electronic manifest for cargo exported from the United States by rail. The U.S. Principal Party in Interest (USPPI) is required to transmit and verify system acceptance of certain advance information to CBP for export cargo leaving the United States by rail See 19 CFR 192.14. For further details about current requirements, please refer to the September 9, 2015 notice. The data and the results of the ACE Export Manifest for Rail Cargo Test will aid CBP in determining which parties are the best source of the export manifest data and when the data is available to be submitted to CBP.

CBP has been consulting with the Commercial Customs Operations Advisory Committee (COAC) to address ongoing issues concerning the quality, accessibility, and timeliness of export manifest data received during the test. One issue of concern to COAC is the availability of certain data elements currently required under the test 2 hours prior to loading of the cargo on the train in preparation for departure from the United States. COAC urged CBP to change the filing condition of those data elements.

After evaluating the initial phase of the ACE Export Manifest for Rail Cargo Test and considering COAC's comments, CBP has determined that, in order to better test the functionality and feasibility of submitting the specified export data 2 hours prior to loading of the cargo on the train, the filing condition for nine of the data elements should be changed. The modified filing conditions will enable CBP to better determine the appropriate reporting requirements for each data element. (Data elements which are “mandatory” must be provided to CBP for every shipment. Data elements which are “conditional” must be provided to CBP only if the particular information pertains to the cargo. Data elements which are “optional” may be provided to CBP but are not required.)

CBP is modifying the ACE Export Manifest for Rail Cargo Test to change the following eight mandatory or conditional data elements to optional:

• Mode of Transportation (Rail, containerized or Rail, non-containerized) (Data Element #1)

• Place where the carrier took possession (Data Element #14)

• Country of Ultimate Destination (Data Element #16)

• Equipment Type Code (Data Element #17)

• Number of House Bills of Lading (Data Element #22)

• Split Shipment Indicator (Data Element #29)

• Portion of Split Shipment (Data Element #30)

• Mexican Pedimento Number (Data Element #32)

CBP is modifying the ACE Export Manifest for Rail Cargo Test to change the following data element from mandatory to conditional:

• Marks and Numbers (Data Element #10)

The remaining data elements under the ACE Export Manifest for Rail Cargo Test continue to be mandatory, conditional, or optional as provided in the September 9, 2015 notice. The full list of data elements for all shipments, including empty rail cars, is set forth below. Unless otherwise noted, the data elements are mandatory.

(1) Mode of Transportation (Rail, containerized or Rail, non-containerized) (optional)

(2) Port of Departure from the United States

(3) Date of Departure

(4) Manifest Number

(5) Train Number

(6) Rail Car Order

(7) Car Locator Message

(8) Hazmat Indicator (Yes/No)

(9) 6-character Hazmat Code (conditional) (If the hazmat indicator is yes, then UN (for United Nations Number) or NA (North American Number) and the corresponding 4-digit identification number assigned to the hazardous material must be provided.)

(10) Marks and Numbers (conditional)

(11) SCAC (Standard Carrier Alpha Code) for exporting carrier

(12) Shipper name and address (For empty rail cars, the shipper may be the railroad from whom the rail carrier received the empty rail car to transport.)

(13) Consignee name and address (For empty rail cars, the consignee may be the railroad to whom the rail carrier is transporting the empty rail car.)

(14) Place where the rail carrier takes possession of the cargo shipment or empty rail car (optional)

(15) Port of Unlading

(16) Country of Ultimate Destination (optional)

(17) Equipment Type Code (optional)

(18) Container Number(s) (for containerized shipments) or Rail Car Number(s) (for all other shipments)

(19) Empty Indicator (Yes/No)

If the empty indicator is no, then the following data elements must also be provided, unless otherwise noted:

(20) Bill of Lading Numbers (Master and House)

(21) Bill of Lading type (Master, House, Simple or Sub)

(22) Number of house bills of lading (optional)

(23) Notify Party name and address (conditional)

(24) AES Internal Transaction Number or AES Exemption Statement (per shipment)

(25) Cargo Description

(26) Weight of Cargo (may be expressed in either pounds or kilograms)

(27) Quantity of Cargo and Unit of Measure

(28) Seal Number (only required if the container was sealed)

(29) Split Shipment Indicator (Yes/No) (optional)

(30) Portion of split shipment (e.g. 1 of 10, 4 of 10, 5 of 10—Final. etc.) (optional)

(31) In-bond number (conditional)

(32) Mexican Pedimento Number (only for shipments for export to Mexico) (optional)

If, after the conclusion of the ACE Export Manifest for Rail Cargo Test, CBP decides to conduct rulemaking to amend the regulations concerning the filing of the manifest for rail cargo, CBP will reevaluate the filing conditions for each data element to determine the feasibility of requiring that data element to be filed electronically in ACE within a specified time before the cargo is loaded on the train.

Extension of the Test

To continue further evaluation of the ACE Export Manifest for Rail Cargo Test, CBP is extending the test for an additional year. The expanded and modified test will run until October 9, 2018.

Applicability of Initial Test Notice

Unless explicitly changed by this or subsequent notices published in the Federal Register, all other aspects of the initial test announced in the September 9, 2015 notice, including test procedures and conditions, the application process, and the waiver of certain regulatory requirements, remain in effect.

Paperwork Reduction Act

In accordance with the Paperwork Reduction Act of 1995 (Pub. L. 104-13, 44 U.S.C. 3507), an agency may not conduct, and a person is not required to respond to, a collection of information unless the collection of information displays a valid control number assigned by the Office of Management and Budget (OMB). The collections of information in this NCAP test have been approved by OMB in accordance with the requirements of the Paperwork Reduction Act and assigned OMB control number 1651-0001.

Dated: August 8, 2017.
Todd C. Owen,
Executive Assistant Commissioner, Office of Field Operations.

[FR Doc. 2017-17076 Filed 8-11-17; 8:45 am]

BILLING CODE 9111-14-P